DEPARTMENT OF HEALTH AND HUMAN SERVICES

Health Resources and Services Administration

Notice of Availability of Final Policy Guidance

AGENCY: Health Resources and Services Administration (HRSA), HHS.

ACTION: Final Agency Guidance and Response to Public Comments.

SUMMARY: HRSA is publishing a final Agency Guidance (“Policy Information Notice” (PIN) 2007-09) to describe and clarify HRSA's current policy and process for resolving issues and conflicts related to health center service area overlap. The PIN, “Service Area Overlap: Policy and Process,” and the Agency's “Response to Public Comments” are available on the Internet at http://bphc.hrsa.gov/chc/sao.htm.

DATES: The effective date of this final Agency guidance is March 12, 2007.

Background: HRSA manages the Health Center Program, which supports more than 3,800 health care delivery sites, including community health centers, migrant health centers, health care for the homeless centers, and public housing primary care centers. Health centers serve clients that are primarily low-income and minorities, and deliver preventive and primary care services to patients regardless of their ability to pay. Charges for health care services are set according to income.

On June 22, 2006, HRSA made the draft PIN, “Service Area Overlap: Policy and Process,” available for public comment on HRSA's Web site. The purpose of the PIN is to describe and clarify HRSA's current policy and process for resolving issues and conflicts related to health center service area overlap. Comments were due to HRSA by August 18, 2006.

Comments were received from 28 organizations and/or individuals. After review and careful consideration of all comments received, HRSA amended the PIN to incorporate certain recommendations from the public. The final PIN reflects these changes.

In addition to making the final PIN available on HRSA's Web site, HRSA is also posting the Agency's “Response to Public Comments.” The purpose of that document is to summarize the major comments received and describe the Agency's response, including any corresponding changes made to the PIN. Where comments did not result in a revision to the PIN, explanations are provided.

FOR FURTHER INFORMATION CONTACT: Please contact Shannon Dunne Faltens at 301-594-4060 for any questions regarding this PIN.

Dated: March 15, 2007.
Elizabeth M. Duke,
Administrator.

[FR Doc. E7-5291 Filed 3-22-07; 8:45 am]

BILLING CODE 4165-15-P